FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Alonso Shipping Company (NVO & OFF), 7855 NW 12th Street, Suite 216, Miami, FL 33126. Officer: Ana M. Segura, President (QI), Application Type: Add NVO Service.

Alpha Cargo Logistics, Corp. (OFF), 11410 SW. 42nd Terrace, Miami, FL 33165. Officer: Nancy M. Salazar, President (QI), Application Type: New OFF License.

Armstrong Export, Inc. (OFF), 2001 N.W. 93rd Avenue, Doral, FL 33172. Officer: Lewis R. Armstrong, President (QI), Application Type: Name Change to Armstrong Group International, Inc.

Baylink Global Logistics Inc. (OFF), 145-18 156th Street, Suite 211C, Jamaica, NY 11434. Officer: Jason Zhang, President (QI), Application Type: New OFF License.

Big Dog Group, Inc. (NVO & OFF), 1235 North Loop West, Suite 500, Houston, TX 77008. Officers: Daniel A. Kirk, Secretary (QI), Kirk A. Lane, President, Application Type: New NVO & OFF License.

Caesar International Logistics (LAX) Co. Ltd (NVO), 17595 Almahurst Road, Suite 201, City of Industry, CA 91748. Officers: Marie Li Mei, Vice President (QI), Ping Zhang, President, Application Type: New NVO.

CNC Worldwide, Inc. (NVO), 5343 W. Imperial Highway, Suite 300, Los Angeles, CA 90045. Officers: Eric Cheon, Secretary (QI), Henry Kim, President, Application Type: Transfer to Cosmo Express International Corp. dba CNC, Worldwide, Inc.

CTL Lax, Inc. (NVO), 4281 Katella Avenue, Suite 200, Los Alamitos, CA 90720. Officers: Tat (Stephen) W. Cho, Secretary (QI), Sin F. Chan, President, Application Type: QI Change.

Draco Freight Logistics Corporation (NVO & OFF), 8140 NW 74th Avenue, Suite 18, Medley, FL 33166. Officers: Leonardo Capra, President (QI), Luciano Menzes, Director, Application Type: Add OFF Service.

Efreightsolutions, LLC (NVO & OFF), 5021 Statesman Drive, Suite 200, Irving, TX 75063. Officers: Frank M. Ramirez, Assistant Secretary (QI), William S. Askew, Member/Manager, Application Type: Add OFF Service.

ENI Shipping Inc (NVO & OFF), 335 West Artesia Blvd., Compton, CA 90220. Officer: Hang (Kevin) D. Lee, President (QI), Application Type: Add OFF Service.

Exclusive Global Logistics, Inc. (NVO & OFF), 9635 Heinrich Hertz Drive, Suite 1, San Diego, CA 92154. Officers: Hyunkyoo Lim, CFO (QI), Bowhan Kim, President, Application Type: New NVO & OFF License.

Four Season Logistics Corporation (NVO), 243 Woodland Drive, Lincroft, NJ 07738. Officers: Jiade (Chad) Lu, Vice President (QI), Tianpeng Xu, President, Application Type: New NVO License.

Global Cargo Transportation, Inc. (NVO), 11856 Orange Street, Suite 814, Norwalk, CA 90650. Officer: Jisu (aka Andy) Shin, CEO (QI), Application Type: New NVO License.

Global Team USA LLC (NVO & OFF), 11301 Metro Airport Center Drive, Suite 170, Romulus, MI 48174. Officer: Petra Clark, Member/Manager (QI), Application Type: New NVO & OFF License.

Graceworld Incorporation (NVO & OFF), 14023 Crenshaw Blvd., Suite 6, Hawthorne, CA 90250. Officers: Tracey Strine, CFO (QI), Ugochukwu O. Ene, President, Application Type: New NVO & OFF License.

Hengfeng International Forwarding Corp. (NVO), 147 N. Sierra Bonita Avenue, Pasadena, CA 91106. Officers: Yu Hui (Maggie) Liu, Secretary (QI), Yijun Wang, President, Application Type: New NVO License.

Intell SCM LLC dba Island Cargo Support dba AWA Lines (NVO), 3910 Cover Street, Long Beach, CA 90808. Officers: Andrew P. Scott, CEO (QI), Alex F. Knowles, Director, Application Type: Name Change to Intelligent SCM LLC dba Awa Lines dba AWA Logistics dba Island Cargo Support dba American Worldwide Agencies.

Interglobal Logistics VE 2509, Inc. (NVO & OFF), 5951 NW. 151 Street, Suite 101, Miami Lakes, FL 33014. Officers: Mario Zamora, Secretary (QI), Yoel J. Rojas, President, Application Type: New NVO & OFF License.

J.A. Logistics, Inc. (NVO & OFF), 3905 W. Albany Street, McHenry, IL 60050. Officers: Peter Janetzki, COO (QI), Joseph M. Alger, President, Application Type: QI Change.

K & K Express, LLC dba K2 Logistics (NVO & OFF), 1521 Greens Road, Suite 300, Houston, TX 77032. Officers: Deborah E. England, Vice President of Exports (QI), Christiaan G. Walhof, CEO, Application Type: QI Change & Add NVO Service.

Latek Logistics USA Inc. (NVO & OFF), 300-2 Route 17 South, Unit E, Lodi, NJ 07644. Officers: Bas Kagen, Secretary (QI), Levent Erdogan, President, Application Type: Add Trade Name Chain Logistics.

Light Cone Logistics Inc. (NVO), 4656 160th Street, Flushing, NY 11358. Officers: Kwok (Henry) F. Siu, Vice President (QI), Yanhong Wang, President, Application Type: New NVO License.

Logifocus USA, Inc. (NVO & OFF), 1229 E. Walnut Street, Suite 101, Carson, CA 90746. Officer: Jonathan J. Park, President (QI), Application Type: New NVO & OFF License.

MI Logix, Inc (NVO), 160-42 Cross Island Parkway, Whitestone, NY 11357. Officer: Jin Soo Chun, President (QI), Application Type: New NVO License.

Miami Freight & Logistics Services, Inc. dba Miami Global Lines dba Miami Global Freight Lines, Inc. (NVO & OFF), 120 Ethel Road West, Piscataway, NJ 08854. Officers: Syed H. Hussaini, Director (QI), Mohamed Abouelmaati, Director, Application Type: New NVO & OFF License.

Montero Shipping Corp (NVO), 4846 NW 167th Street, Miami Gardens, FL 33014. Officers: Luis M. Ramirez, President (QI), Application Type: New NVO License.

NACA Logistics (USA), Inc. dba Vanguard Logistics Services, Vanguard, Ocean Express, Oceanexpress, Ocean World Shipping, OWS, Direct Container Line, DCL, Conterm Consolidation Services, Conterm, Brennan International Transport, Brennan, 5000 Airport Plaza Drive, Suite 200, Long Beach, CA 90815. Officers: Ank J. De Roos, Director (Global Compliance) QI, Hans Mikkelsen, President, Application Type: Name Change to Vanguard Logistics Services (USA), Inc. dba Vanguard Logistics Services dba Vanguard dba Brennan International Transport, dba Brennan, dba Conterm Consolidation Services, dba Conterm, dba Direct Container Line, dba DCL, dba Ocean World Shipping, dba OWS, dba Ocean Express, dba Oceanexpress.

NEC Logistics America, Inc. (NVO & OFF), 18615 Ferris Place, Rancho Dominguez, CA 90220. Officers: Nobuko Tochigi, Assistant Secretary (QI), Kazuhiko Takahashi, President, Application Type: QI Change & Name Change to Nippon Express NEC Logistics America, Inc.

Pacific Removal Services, Inc. dba World International Forwarding Co. (OFF), 4201 Long Beach Blvd., Suite 402, Long Beach, CA 90807. Officer: Joseph W. Lovejoy, President (QI), Application Type: QI Change.

Paramount Marine Services (OFF), 4648 Montefino Drive, Cypress, CA 90630. Officer: Vivian Liu, President (QI), Application Type: New OFF License.

Performance Logistics, Inc. (NVO), 901 W. Spruce Avenue, Inglewood, CA 90301. Officer: Jae Y. Choi, President (QI), Application Type: New NVO License.

Posner, Corp. (NVO & OFF), 610 Caitlyn Ct., Houston, TX 77094. Officers: Humphrey T. Okonkwo, Vice President (QI), Victor Byaly, President, Application Type: QI Change.

RKM International LLC (NVO), 76 Division Street, Holtsville, NY 11742. Officers: Kathleen Fox, Member/Manager (QI), Robert Sturdivant, Member/Manager, Application Type: New NVO License.

Southport C.F.S. Corp. (NVO), 10943 NW 122 Street, Medley, FL 33178. Officer: Maria V. Arbelaez, President (QI), Application Type: New NVO License.

Sunivo America LLC (NVO & OFF), 3050 Post Oak Blvd., Suite 520, Houston, TX 77056. Officers: Thomas C. Coulbourne, Corporate Secretary (QI), Tony Sit, Manager, Application Type: New NVO & OFF License.

Swift International Logistics, Inc. (NVO), 3 Powell Drive, West Orange, NJ 07052. Officer: Michelle Dachot, President (QI), Application Type: New NVO License.

The ILS Company, LLC (OFF), 8350 E. Old Vail Road, Tucson, AZ 85747. Officers: Juan C. Seldner, Manager (QI), Luis F. Seldner, Manager, Application Type: New OFF License.

Tradewings USA Corp. (NVO & OFF), 14100 NW 60th Avenue, Suite 100, Miami, FL 33014. Officers: Nilda H. Alonso, Assistant Secretary (QI), Ian M. Taylor, President, Application Type: QI Change.

Trimex Group, Incorporated (NVO), 4080 Woodstock Road, Hayward, CA 94542. Officers: Edward S. Park, President (QI), Susan S. Park, Director, Application Type: QI Change.

Windward Logistics, LLC (NVO), 6750 NW. 79th Avenue, Miami, FL 33166. Officers: Carlos Rice, President (QI), Jorge Oria, Member, Application Type: QI Change.

Worldwide Transport Company, L.L.C. (NVO & OFF), 150 River Road, Unit H4, Montville, NJ 07045. Officer: Margherita Dimuro, Member (QI), Application Type: New NVO & OFF License.

Zitao Yang dba YC International Company (NVO), 221 Boston Post Road East, Suite #420, Marlborough, MA 01752. Officers: Zitao (aka Ted) Yang, President (QI), Chengyao Cao, Shareholder, Application Type: Business Structure Change to YC International Group Company Inc.

Dated: April 16, 2014.
By the Commission.
Karen V. Gregory,
Secretary.

[FR Doc. 2014-09097 Filed 4-21-14; 8:45 am]

BILLING CODE 6730-01-P